LIBRARY OF CONGRESS

Copyright Office

37 CFR Parts 201 and 202

[Docket No. 2020-2]

Group Registration of Newsletters

AGENCY: U.S. Copyright Office, Library of Congress.

ACTION: Notice of proposed rulemaking.

SUMMARY: The U.S. Copyright Office is proposing to amend its regulation governing the group registration option for newsletter issues. The proposed rule eliminates the requirement that newsletters must be published at least two days each week to qualify for a group registration. This will let a broader range of newsletter publishers register a month of issues, without imposing an administrative burden on the Office. In addition, the proposed rule updates the address where complimentary subscriptions should be sent for purposes of satisfying the mandatory deposit requirement for newsletters and other serials.

DATES: Written comments must be received no later than 11:59 Eastern Time on March 25, 2020.

ADDRESSES: For reasons of government efficiency, the Copyright Office is using the regulations.gov system for the submission and posting of public comments in this proceeding. All comments are therefore to be submitted electronically through regulations.gov. Specific instructions for submitting comments are available on the Copyright Office website at http://copyright.gov/rulemaking/group-newsletters-frequency/. If electronic submission of comments is not feasible due to lack of access to a computer and/or the internet, please contact the Office using the contact information below for special instructions.

FOR FURTHER INFORMATION CONTACT: Robert J. Kasunic, Associate Register of Copyrights and Director of Registration Policy and Practice, rkas@copyright.gov; Erik Bertin, Deputy Director of Registration Policy and Practice, ebertin@copyright.gov; or Kevin Amer, Deputy General Counsel, kamer@copyright.gov. They can be reached by telephone at (202) 707-3000.

SUPPLEMENTARY INFORMATION: The Office has established a group registration option that lets a newsletter publisher register an entire month of issues with one application and one filing fee. A publisher may use this option if each issue is “an all-new issue or an all-new collective work that has not been previously published.” ¹ In addition, the newsletter “must usually” be published “at least two days each week.” ² The word “usually” was added to the regulation “to account for occasional situations where the newsletter suspends publication (e.g. for a holiday).” ³

¹ 37 CFR 202.4(f)(1)(iii).

² 37 CFR 202.4(f)(1)(i).

³ 83 FR 22902, 22904 (May 17, 2018).

It has come to the Office's attention that many newsletters are published just once a week. The requirement that publication must usually occur at least twice a week renders these newsletters ineligible for this group registration option. Some newsletter publishers may be able to use the group registration option for serials (which is specifically intended for publications that are distributed at intervals of a week or longer), but to do so each issue “must be an all-new collective work.” ⁴ Thus, if a newsletter is published once a week and if those issues do not qualify as all-new collective works, the publisher may not qualify for the group registration option for newsletters or the group registration option for serials. For these types of newsletters, the publisher must submit a separate application and filing fee for each issue.

⁴ 37 CFR 202.4(d)(1)(iii). See id. (d)(1)(v).

To address this issue, the Office has decided to eliminate the requirement that newsletters must be published at least two days a week to qualify for the group registration option for newsletters.⁵ This will let publishers register newsletters that otherwise would be ineligible for this option, without imposing an administrative burden on the Office.

⁵ To be eligible for group registration under this rule, the group must consist of at least two issues, and all of the issues included in the group must be published in the same calendar month. 37 CFR 202.4(f)(1)(ii), (v).

Newsletter publishers will still be required to complete and submit an online application and upload a digital deposit to seek a group registration.⁶ The online application is labeled “Daily Newsletters,” but to be clear, this form may be used to register any newsletter, even if it is not published on a daily basis, as long as all of the issues are published within the same month.

⁶ 37 CFR 202.4(f)(2), (3).

Likewise, newsletter publishers will still be required to comply with the mandatory deposit requirement if the newsletter is published in the United States in a physical form.⁷ To satisfy this requirement, the publisher must provide the Library of Congress with up to two complimentary subscriptions to the newsletter.⁸ To facilitate this process, the Office is updating the mailing address where complimentary subscription copies should be sent.

⁷ 37 CFR 202.19(d)(2)(xi).

⁸ Newsletters that are published solely in electronic format remain subject to the Library's on-demand mandatory deposit regime for electronic serials. See 37 CFR 202.19(c)(5), 202.24.

The Office welcomes public input on the following proposed changes.

List of Subjects

37 CFR Part 201

Copyright, General Provisions.

37 CFR Part 202

Copyright, Preregistration and registration of claims to copyright.

Proposed Regulations

For the reasons set forth in the preamble, the Copyright Office proposes amending 37 CFR parts 201 and 202 as follows:

PART 201—GENERAL PROVISIONS

1. The authority citation for part 201 continues to read as follows:

Authority: 17 U.S.C. 702.

2. Revise § 201.1(c)(6) to read as follows:

§ 201.1 Communication with the Copyright Office.

* * * * *

(c) * * *

(6) Mandatory Deposit Copies. Mandatory deposit copies of published works submitted for the Library of Congress under 17 U.S.C. 407 and § 202.19 of this chapter (including serial publications that are not being registered) should be addressed to: Library of Congress, U.S. Copyright Office, Attn: 407 Deposits, 101 Independence Avenue SE, Washington, DC 20559-6600, except that mandatory deposit copies submitted as complimentary subscriptions for serial publications that are being registered should be addressed to: Library of Congress, Group Serials Registration, Washington, DC 20540-4161.

* * * * *

PART 202—PREREGISTRATION AND REGISTRATION OF CLAIMS TO COPYRIGHT

3. The authority citation for part 202 continues to read as follows:

Authority: 17 U.S.C. 408(f), 702.

4. Amend § 202.4(f)(1)(i) by removing “Publication must usually occur at least two days each week and the” and adding “The” in its place.

Dated: February 5, 2020.
Regan A. Smith,
General Counsel and Associate Register of Copyrights.

[FR Doc. 2020-03376 Filed 2-21-20; 8:45 am]

BILLING CODE 1410-30-P